DEPARTMENT OF ENERGY

Federal Energy Regulatory Commission

Combined Notice of Filings #1

Take notice that the Commission received the following electric corporate filings:

Docket Numbers: EC15-67-000.

Applicants: Hawaiian Electric Industries, Inc.

Description: Application for Authorization Under Section 203 of the Federal Power Act and Request for Expedited Consideration of Hawaiian Electric Industries, Inc.

Filed Date: 1/29/15.

Accession Number: 20150129-5290.

Comments Due: 5 p.m. ET 2/19/15.

Take notice that the Commission received the following exempt wholesale generator filings:

Docket Numbers: EG15-44-000.

Applicants: Malaga Power, LLC.

Description: Notice of Self-Certification of Exempt Wholesale Generator Status of Malaga Power, LLC.

Filed Date: 1/28/15.

Accession Number: 20150128-5120.

Comments Due: 5 p.m. ET 2/18/15.

Docket Numbers: EG15-45-000.

Applicants: Passadumkeag Windpark, LLC.

Description: Passadumkeag Windpark Notice of Self-Certification of Exempt Wholesale Generator Status.

Filed Date: 1/30/15.

Accession Number: 20150130-5079.

Comments Due: 5 p.m. ET 2/20/15.

Take notice that the Commission received the following electric rate filings:

Docket Numbers: ER13-445-004; ER15-622-001; ER15-621-001; ER15-463-001; ER15-110-001; ER14-2871-002; ER14-2823-002; ER14-2382-002; ER13-1586-003; ER12-1301-005; ER11-4061-004; ER11-4060-004; ER11-3460-007; ER11-2639-003; ER10-3251-002; ER10-3250-003; ER10-3249-003; ER10-3245-003; ER10-3244-004; ER10-3243-004; ER10-3169-007; ER10-1992-009.

Applicants: Badger Creek Limited, Bayonne Energy Center, LLC, Cameron Ridge, LLC, Chandler Wind Partners, LLC, Coso Geothermal Power Holdings, LLC, Double C Generation Limited Partnership, Foote Creek II, LLC, Foote Creek III, LLC, Foote Creek IV, LLC, High Sierra Limited, Kern Front Limited, Michigan Power Limited Partnership, Oak Creek Wind Power, LLC, ON Wind Energy LLC, Pacific Crest Power, LLC, Ridge Crest Wind Partners, LLC, Ridgetop Energy, LLC, San Gorgonio Westwinds II, LLC, Terra-Gen Energy Services, LLC, TGP Energy Management, LLC, Victory Garden Phase IV, LLC, Zone J Tolling Co., LLC.

Description: Notice of Non-Material Change in Status of Badger Creek Limited, et al.

Filed Date: 1/29/15.

Accession Number: 20150129-5335.

Comments Due: 5 p.m. ET 2/19/15.

Docket Numbers: ER14-1215-003.

Applicants: Duke Energy Carolinas, LLC.

Description: Tariff Amendment per 35.17(b): Amendment to SCPSA and CEPCI NITSAs and Metering Agreements to be effective 1/1/2015.

Filed Date: 1/30/15.

Accession Number: 20150130-5060.

Comments Due: 5 p.m. ET 2/20/15.

Docket Numbers: ER15-277-002.

Applicants: Midcontinent Independent System Operator, Inc.

Description: Compliance filing per 35: 2015-01-29_RPU Attachment O Compliance Filing to be effective 1/1/2015.

Filed Date: 1/29/15.

Accession Number: 20150129-5265.

Comments Due: 5 p.m. ET 2/19/15.

Docket Numbers: ER15-928-000.

Applicants: Northern Indiana Public Service Company.

Description: § 205(d) rate filing per 35.13(a)(2)(iii): Filing of CIAC Agreement to be effective 1/30/2015.

Filed Date: 1/29/15.

Accession Number: 20150129-5257.

Comments Due: 5 p.m. ET 2/19/15.

Docket Numbers: ER15-929-000.

Applicants: Southwest Power Pool, Inc.

Description: § 205(d) rate filing per 35.13(a)(2)(iii): Oklahoma Municipal Power Authority Revised Stated Rate to be effective 4/1/2015.

Filed Date: 1/29/15.

Accession Number: 20150129-5266.

Comments Due: 5 p.m. ET 2/19/15.

Docket Numbers: ER15-930-000.

Applicants: Chief Keystone Power, LLC.

Description: Baseline eTariff Filing per 35.1: Notice of Succession to Reactive Power Tariff to be effective 1/31/2015.

Filed Date: 1/30/15.

Accession Number: 20150130-5030.

Comments Due: 5 p.m. ET 2/20/15.

Docket Numbers: ER15-931-000.

Applicants: Chief Conemaugh Power, LLC.

Description: Baseline eTariff Filing per 35.1: Notice of Succession to Reactive Power Tariff to be effective 1/31/2015.

Filed Date: 1/30/15.

Accession Number: 20150130-5031.

Comments Due: 5 p.m. ET 2/20/15.

Docket Numbers: ER15-932-000.

Applicants: Southwest Power Pool, Inc.

Description: § 205(d) rate filing per 35.13(a)(2)(iii): Revisions to Attachment AE to Clarify Settlement Area Definition to be effective 4/1/2015.

Filed Date: 1/30/15.

Accession Number: 20150130-5077.

Comments Due: 5 p.m. ET 2/20/15.

Take notice that the Commission received the following land acquisition reports:

Docket Numbers: LA14-4-000.

Applicants: East Coast Power Linden Holding, L.L.C, Cogen Technologies Linden Venture, L.P., Birchwood Power Partners, L.P, Shady Hills Power Company, L.L.C., EFS Parlin Holdings, LLC, Inland Empire Energy Center, LLC, Homer City Generation, L.P.

Description: Quarterly Land Acquisition Report of the GE Companies.

Filed Date: 1/30/15.

Accession Number: 20150130-5085.

Comments Due: 5 p.m. ET 2/20/15.

Take notice that the Commission received the following public utility holding company filings:

Docket Numbers: PH15-7-000.

Applicants: Consolidated Edison, Inc.

Description: Consolidated Edison Company submits FERC 65-B Material Change in Facts of Waiver Notification.

Filed Date: 1/29/15.

Accession Number: 20150129-5333.

Comments Due: 5 p.m. ET 2/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2015.
Nathaniel J. Davis, Sr.,
Deputy Secretary.

[FR Doc. 2015-02630 Filed 2-9-15; 8:45 am]

BILLING CODE 6717-01-P